DEPARTMENT OF DEFENSE

Office of the Secretary

[Docket ID: DOD-2016-OS-0100]

Proposed Collection; Comment Request

AGENCY: Defense Manpower Data Center (DMDC), DoD.

ACTION: Notice.

SUMMARY: In compliance with the Paperwork Reduction Act of 1995, the Defense Manpower Data Center announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 16, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Manpower Data Center, Division Director, Personnel Security Assurance, ATTN: John Liu, DoD Center Monterey Bay, 400 Gigling Road, Seaside, CA 93955-6771, or call at (831) 583-2500.

SUPPLEMENTARY INFORMATION:

Title; Associated Form; and OMB Number: Defense Information System for Security (DISS); Standard Form 85, Standard Form 85p, Standard Form 86, Standard Form 86A, and Standard Form 86C; OMB Control Number 0704-XXXX.

Needs and Uses: The information collection requirement is necessary to obtain information resulting in accesses determinations to sensitive/classified information and facilities.

Affected Public: Business or other for profit; Federal Government.

Annual Burden Hours: 333,333.

Number of Respondents: 500,000.

Responses per Respondent: 2.

Annual Responses: 1,000,000.

Average Burden per Response: 20 minutes.

Frequency: On occasion.

DISS requires personal data collection to facilitate the initiation, investigation and adjudication of information relevant to DoD security clearances and employment suitability determinations for active duty military, civilian employees and contractors seeking such credentials. As a Personnel Security System it is the authoritative source for clearance information resulting in accesses determinations to sensitive/classified information and facilities. Specific uses include the facilitation for DoD Adjudicators and Security Managers to obtain accurate up-to-date eligibility and access information on all personnel (military, civilian and contractor personnel) adjudicated by the DoD. The DoD Adjudicators and Security Managers are also able to update eligibility and access levels of military, civilian and contractor personnel nominated for access to sensitive DoD information. By completing the OPM Shared Forms SF 86, SF 86A, SF 86C, SF 85, or SF 85P, individuals are consenting to the specific uses of their PII. Information contained in this system is derived from the appropriate DoD personnel systems; Case Adjudication Tracking System (CATS); records maintained by the DoD adjudicative agencies; and records maintained by security managers, special security officers, or other officials requesting and/or sponsoring the security eligibility determination for the individual.

Dated: October 12, 2016.
Aaron Siegel,
Alternate OSD Federal Register Liaison Officer, Department of Defense.

[FR Doc. 2016-25019 Filed 10-14-16; 8:45 am]

BILLING CODE 5001-06-P